DEPARTMENT OF HEALTH AND HUMAN SERVICES

Administration for Children and Families

Notice to Administratively Impose a Matching Requirement

AGENCY: Division of Grants Policy, Office of Financial Services, Office of Administration, Administration for Children and Families (ACF), Department of Health and Human Services (HHS).

ACTION: Notice.

SUMMARY: The Administration for Children and Families (ACF) hereby gives notice to the public that certain programs within the Agency will be administratively imposing a matching requirement on grants awarded under the following program titles and funding opportunity announcements for Fiscal Year 2008:

ACF program office | Program title | CFDA No. | Funding opportunity title and No. | Amount of cost share as % of total project cost | Acceptable types non-federal resources
Office of Child Support Enforcement | Child Support Enforcement Research | 93.564 | Section 1115 Demonstration Grants HHS-2008-ACF-OCSE-FC-0006 | 5 | Cash is preferred and In-Kind resources from public entities only are accepted.
Administration for Children, Youth and Families/Children's Bureau | Promoting Safe and Stable Families Abandoned Infants Assistance Child Welfare Service Training Grants | 93.556 93.551 93.648 | Multiple Program Announcements | 10 | Cash and In-Kind.
| Adoption Opportunities | 93.652
| Child Abuse and Neglect Discretionary Activities | 93.670
Office of Planning, Research and Evaluation | Child Care and Development Block Grant | 93.575 | Child Care Policy Research Grants HHS-2008-ACF-OPRE-YE-0013 Child Care State Research Capacity Cooperative Agreements HHS-2008-ACF-OPRE-YE-0031. | 20 | Cash and In-Kind.
| Temporary Assistance for Needy Families | 93.558 | Federal-State Partnerships to Build Capacity in the Use of TANF and Related Administrative Data HHS-2008-ACF-OPRE-PD-0059 | 5 | Cash and In-Kind.
Office of Community Services | Compassion Capital Fund (CCF) | 93.009 | Intermediary Demonstration Program HHS-2008-ACF-OCS-EJ-0035 | 20 | Cash and In-Kind.
Administration on Developmental Disabilities | Developmental Disabilities Projects of National Significance | 93.631 | Family Support 360 HHS-2008-ACF-ADD-DN-0009 Projects for Youth Information, Training and Resource Centers for Youth and Emerging Leaders with Developmental Disabilities HHS-2008-ACF-ADD-DN-0018. | 25 | Cash and In-Kind.

Historically, ACF has found that the imposition of a matching requirement on awards under these programs results in an increased level of community support and, often, a higher profile in the community. This can contribute to the success and sustainability of the project. The Fiscal Year 2008 funding opportunity announcements for each listed program will advise applicants on the percentage of funds that must be contributed through non-Federal resources, the composition of the match, and the merit of the match as a criterion in the competitive review. The amount and acceptable types of non-Federal resources allowed is not negotiable. However, matching may be provided as direct or indirect costs. The presence and composition of matching funds may be used as a criterion in evaluating the merits of an application during competitive review. Specific information related to the matching requirement and competitive review will be provided in the specific funding opportunity announcement. Unmatched Federal funds will be disallowed. Costs borne by matching contributions are subject to the rules governing allowability found under 45 CFR 74.23 and 45 CFR 92.24.

FOR FURTHER INFORMATION CONTACT: Melody Wayland, Office of Administration, Office of Financial Services Division of Grants Policy, 370 L'Enfant Promenade, SW., 6th Floor East, Washington, DC 20447, or by telephone at 202-401-5714 or mwayland@acf.hhs.gov.

Dated: October 24, 2007.
Curtis L. Coy,
Deputy Assistant Secretary for Administration, Administration for Children and Families.

[FR Doc. E7-21344 Filed 10-30-07; 8:45 am]

BILLING CODE 4184-01-P